DEPARTMENT OF COMMERCE

National Oceanic and Atmospheric Administration

Agency Information Collection Activities; Submission to the Office of Management and Budget for Review and Approval; Comment Request; Southeast Region Permit Family of Forms

AGENCY: National Marine Fisheries Service (NMFS), National Oceanic and Atmospheric Administration (NOAA), Commerce.

ACTION: Notice of information collection; request for comment.

SUMMARY: The Department of Commerce, in accordance with the Paperwork Reduction Act of 1995 (PRA), invites the general public and other Federal agencies to comment on proposed and continuing information collections, which helps us assess the impact of our information collection requirements and minimize the public's reporting burden. The purpose of this notice is to allow for 60 days of public comment before the Department submits the information collection request to the Office of Management and Budget (OMB).

DATES: To ensure consideration, written comments regarding this information collection must be received no later than October 23, 2023.

ADDRESSES: Interested persons are invited to submit written comments to Adrienne Thomas, NOAA PRA Officer, at noaa.pra@noaa.gov. Please reference OMB Control Number 0648-0205 in the subject line of your comments. All comments received are part of the public record. All personally identifiable information (for example, name and address) voluntarily submitted by the commenter may be publicly accessible. Do not submit confidential business information or otherwise sensitive or protected information.

FOR FURTHER INFORMATION CONTACT: Direct requests for additional information or questions related to the information collection activities to Adam Bailey, NMFS Southeast Regional Office, 8901 La Jolla Shores Dr, La Jolla, CA 92037; (858) 546-7000; or adam.bailey@noaa.gov.

SUPPLEMENTARY INFORMATION:

I. Abstract

This request is for an extension to the existing reporting requirements approved under the Office of Management and Budget's (OMB) Control Number 0648-0205, Southeast Region Permit Family of Forms. The NMFS Permits Office within the Southeast Regional Office (SERO) administers Federal permits for fishing in the U.S. exclusive economic zone (EEZ) of the Caribbean Sea, Gulf of Mexico (Gulf), and South Atlantic under the authority of the Magnuson-Stevens Fishery Conservation and Management Act (Magnuson-Stevens Act), 16 U.S.C. 1801 et seq.

The NMFS Southeast Region manages Federal fisheries in the Caribbean, Gulf, and South Atlantic under fishery management plans (FMPs) in each of these areas. The regional fishery management councils prepared the FMPs pursuant to the Magnuson-Stevens Act. The regulations implementing the FMPs, including those that have recordkeeping and reporting requirements, are located at 50 CFR part 622 (https://www.ecfr.gov/current/title-50/chapter-VI/part-622?toc=1).

The recordkeeping and reporting requirements at 50 CFR part 622 form the basis for this collection of information. The NMFS Southeast Region requests information from fishery participants. This information results in an increasingly more efficient and accurate database for management and monitoring of the Federal fisheries in the U.S. Caribbean, Gulf, and South Atlantic.

II. Method of Collection

Respondents can access forms and instructions from the SERO Permits Office website at https://www.fisheries.noaa.gov/southeast/resources-fishing/southeast-fisheries-permits, or, if requested by a respondent, the SERO Permits Office can mail an application and instructions. Respondents can complete and submit forms electronically, or complete paper forms, and then respondents can either mail or bring the forms to NMFS.

III. Data

OMB Control Number: 0648-0205.

Form Number(s): None.

Type of Review: Regular submission—extension of current information collection.

Affected Public: Businesses or other for-profit organizations, and individuals or households.

Estimated Number of Respondents: 9,471.

Estimated Time per Response:

• Dealer Permit Application, 30 minutes;

• Vessel EEZ Permit Application, including Golden Tilefish Endorsement and Smoothhound Shark Permit, 50 minutes;

• Wreckfish Permit Application, 55 minutes;

• Vessel Operator Card Application for Rock Shrimp, 30 minutes;

• Fishing in Colombian Treaty Waters Vessel Permit Application, 50 minutes;

• Golden Crab Permittee Zone Transit Notification, 10 minutes;

• Notifications of Lost or Stolen Traps or Authorization for Retrieval (golden crab, reef fish, snapper-grouper, spiny lobster), 10 minutes;

• Vessel Permit Transfers and Notarizations, 10 minutes;

• Annual Landings Report for Gulf of Mexico Shrimp, 20 minutes;

• International Maritime Organization Number Registration, 30 minutes;

• Aquacultured Live Rock Permitting and Reporting—New Permit—Deposit or Harvest Report, 15 minutes; Notice of Intent to Harvest, 10 minutes; Federal Permit Application, including Site Evaluation Report, 70 minutes; and

• Aquacultured Live Rock Permitting and Reporting—Renew Permit—Deposit or Harvest Report, 15 minutes; Notice of Intent to Harvest, 10 minutes; Federal Permit Application, 50 minutes.

Estimated Total Annual Burden Hours: 7,009.

Estimated Total Annual Cost to Public: $321,508 in recordkeeping or reporting costs.

Respondent's Obligation: Mandatory.

Legal Authority: 16 U.S.C. 1801 et seq.

IV. Request for Comments

We are soliciting public comments to permit the Department to: (a) evaluate whether the proposed information collection is necessary for the proper functions of the Department, including whether the information will have practical utility; (b) evaluate the accuracy of our estimate of the time and cost burden for this information collection, including the validity of the methodology and assumptions used; (c) evaluate ways to enhance the quality, utility, and clarity of the information to be collected; and (d) minimize the reporting burden on those who are to respond, including the use of automated collection techniques or other forms of information technology.

Comments that you submit in response to this notice are a matter of public record. We will include or summarize each comment in our request to OMB to approve this information collection. Before including your address, phone number, email address, or other personal identifying information in your comment, you should be aware that your entire comment—including your personal identifying information—may be made publicly available at any time. While you may ask us in your comment to withhold your personal identifying information from public review, we cannot guarantee that we will be able to do so.

Sheleen Dumas,
Department PRA Clearance Officer, Office of the Under Secretary for Economic Affairs, Commerce Department.

[FR Doc. 2023-18061 Filed 8-21-23; 8:45 am]

BILLING CODE 3510-22-P